DEPARTMENT OF THE INTERIOR

Bureau of Land Management

Notice of Public Meetings, Southwest Colorado Resource Advisory Council Meetings

AGENCY: Bureau of Land Management, Department of the Interior.

ACTION: Notice of Correction.

SUMMARY: Bureau of Land Management published notice in the Federal Register, Dec. 13, 2007, listing an incorrect meeting date.

FOR FURTHER INFORMATION CONTACT: Melodie Lloyd, Public Affairs Specialist, (970) 244-3097.

Correction: In the Federal Register of Dec. 13, 2007, in FR Doc. E7-24051, on page 70890, second paragraph, under the heading of DATES, correct the May meeting date. It should read:

The Southwest Colorado RAC meetings will be held February 8, 2008; May 30, 2008; August 8, 2008; and November 14, 2008.

Dated: December 13, 2007.

Dated: December 19, 2007.
Barb Sharrow,
Uncompahgre Field Office Manager, Designated Federal Officer, Southwest Colorado RAC.

[FR Doc. E7-25026 Filed 12-26-07; 8:45 am]

BILLING CODE 4310-JA-P